DEPARTMENT OF THE INTERIOR

Bureau of Reclamation

Glen Canyon Adaptive Management Work Group (AMWG) and Glen Canyon Technical Work Group (TWG)

AGENCY: Bureau of Reclamation, Interior.

ACTION: Notice of public meetings.

SUMMARY: As required by the Federal Advisory Committee Act of October 6, 1972, the Bureau of Reclamation is publishing notice of three public meetings. The Adaptive Management Program (AMP) was implemented as a result of the Record of Decision on the Operation of Glen Canyon Dam Final Environmental Impact Statement and to comply with consultation requirements of the Grand Canyon Protection Act (Pub. L. 102-575) of 1992. The AMP provides an organization and process to ensure the use of scientific information in decision making concerning Glen Canyon Dam operations and protection of the affected resources consistent with the Grand Canyon Protection Act. The AMP has been organized and includes a Federal advisory committee called the “Glen Canyon Dam Adaptive Management Work Group,” a technical work group, a monitoring and research center, and independent review panels. The TWG is a subcommittee of the AMWG and provides technical advice and information for the AMWG to act upon.

DATES: To allow full consideration of information by the TWG and AMWG members, comments should be submitted to the address below at least 5 days prior to the meeting.

The Glen Canyon Technical Work Group (TWG) will conduct one public meeting as follows:

• March 2-3, 2000, Phoenix, Arizona—The meeting will be held 9:30 a.m. to 4:00 p.m. on the first day and 8:00 a.m. to 12:00 noon on the second day. The meeting will be held at the Arizona Department of Water Resources, Conference Room B (3rd Floor), 500 North 3rd Street, Phoenix, Arizona.

The Glen Canyon Adaptive Management Work Group (AMWG) will conduct two public meetings as follows:

• April 4-5, 2000, Phoenix, Arizona—The meeting will be held 9:30 a.m. to 4:00 p.m. on the first day and 8:00 a.m. to 12:00 noon on the second day. The meeting will be held in the Turquoise Room at the Embassy Suites Hotel located at 1515 N. 44th Street in Phoenix, Arizona.

• July 6-7, 2000, Phoenix, Arizona—The meeting will be held 9:30 a.m. to 4:00 p.m. on the first day and 8:00 a.m. to 12:00 noon on the second day. The meeting will be held at the Bureau of Indian Affairs, Phoenix Area Office, 2 Arizona Center, Conference Rooms A and B (12th Floor), 400 North 5th Street, Phoenix, Arizona.

ADDRESSES: Written comments should be provided to Randall Peterson, Bureau of Reclamation, Upper Colorado Regional Office, 125 South State Street, Room 6107, Salt Lake City, Utah 84138-1102; faxogram (801) 524-3858; E-mail at rpeterson@uc.usbr.gov. Any written comments received will be provided to the TWG and AMWG members at the meetings.

Statement for Non-Rulemaking Public Comment Collection Regarding Disclosure of Commenter Names and Home Addresses

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Randall Peterson, telephone (801) 524-3758.

SUPPLEMENTARY INFORMATION:

Agendas

• March 2-3, 2000—The meeting will address administrative issues, review management objectives and information needs, basin hydrology and expected releases, and the AMWG agenda for the meeting on April 4-5, 2000.

• April 4-5, 2000—The meeting will address administrative issues, AMP goals and management objectives, and hydrologic and other scientific studies.

• July 6-7, 2000—The meeting will be held to discuss environmental compliance issues, basin hydrology, FY 2002 budget, and the development of the AMP Strategic Plan. Agenda items may be revised prior to any of the meetings. Final agendas will be posted 15 days in advance of each meeting and can be found on the Internet at http://www.uc.usbr.gov/amp. Time will be allowed on each agenda for any individual or organization wishing to make formal oral comments (limited to 10 minutes) at the meetings.

Dated: February 16, 2000.
Bruce C. Moore,
Manager, Technical Services & Dams Division.

[FR Doc. 00-4205 Filed 2-23-00; 8:45 am]

BILLING CODE 4310-94-P